FEDERAL COMMUNICATIONS COMMISSION

47 CFR Part 73

[DA 06-992; MB Docket No. 05-269; RM-11267]

Radio Broadcasting Services; Allegan, Mattawan, and Otsego, MI

AGENCY: Federal Communications Commission.

ACTION: Final rule.

SUMMARY: This document grants a petition filed by Forum Communications, Inc., licensee of FM Station WZUU, proposing the substitution of Channel 223A for Channel 222A at Allegan, reallotment of Channel 223A from Allegan to Mattawan, Michigan, as its first local service and modification of the FM Station WZUU license accordingly. To prevent removal of Allegan's sole local service, the document grants the reallotment of co-owned Station WQXC-FM, Channel 265A from Otsego to Allegan, Michigan and modification of the Station WQXC-FM license accordingly. A staff engineering analysis has determined that Channel 223A can be allotted to Mattawan in conformity with the Commission's rules, provided there is a site restriction of 10.6 kilometers (6.6 miles) southeast at reference coordinates 42-07-45 NL and 85-43-13 WL. Additionally, Channel 265A can be allotted to Allegan in compliance with the Commission's rules, at the Station WQXC(FM) existing transmitter site at coordinates 42-30-31 NL and 85-46-08 WL. The reallotments are located within 320 kilometers (200 miles) of the U.S.-Canadian border. Canadian concurrence has been requested and approved for these reallotments.

DATES: Effective June 22, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-269, adopted May 5, 2006, and released May 8, 2006. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

For reasons discussed in the preamble, the Federal Communications Commission amends 47 CFR part 73 as follows:

PART 73—RADIO BROADCAST SERVICES

The authority citation for part 73 continues to read as follows:

Authority: 47 U.S.C. 154, 303, 334, 336.

§ 73.202 [Amended]

1. Section 73.202(b), the Table of FM Allotments under Michigan, is amended by removing Channel 222A and by adding Channel 265A at Allegan, by adding Mattawan, Channel 223A, and by removing Ostego, Channel 265A.

Federal Communications Commission.
John A. Karousos,
Assistant Chief, Audio Division, Media Bureau.

[FR Doc. E6-8162 Filed 5-30-06; 8:45 am]

BILLING CODE 6712-01-P